DEPARTMENT OF ENERGY

Federal Energy Regulatory Commission

[Project No. 13651-000]

Lock + ™ Hydro Friends Fund XXXIII, LLC; Notice of Preliminary Permit Application Accepted for Filing and Soliciting Comments, Motions To Intervene, and Competing Applications

January 22, 2010.

On January 8, 2010, Lock + ™ Hydro Friends Fund XXXIII, LLC (Lock + Hydro) filed an application, pursuant to section 4(f) of the Federal Power Act (FPA), proposing to study the feasibility of the Green Lantern Project No. 13651, to be located on the Mississippi River, in Pike County, Illinois, and Ralls County, Missouri. The project would to be located at the existing Mississippi River Lock and Dam No. 22 owned and operated by the U.S. Corps of Engineers that includes a reservoir, a lock and dam equipped with roller and tainter gates, and an earth dike.

The proposed project would consist of: (1) Two new underwater frame modules located adjacent to the earth dike each containing nine turbine generating units with a total capacity of about 9.45 megawatts; (2) a new 220-foot, 450-foot-long intake conduit; (3) a new 220-foot-wide, 50-foot-long tailrace; and (4) a new 5-mile-long, 69 kilovolt transmission line. The project would produce an estimated average annual generation of about 62,130 megawatts-hours.

Lock + Hydro Contact: Wayne F. Krouse, Chairman and CEO, Hydro Green Energy, LLC., 5090 Richmond Avenue, Suite 290, Houston, TX 77056, (877) 556-6566.

FERC Contact: Tom Dean, (202) 502-6041.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “eFiling” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-13651) in the docket number field to access the document. For assistance, call toll-free 1-866-208-3372.

Kimberly D. Bose,
Secretary.

[FR Doc. 2010-1984 Filed 1-29-10; 8:45 am]

BILLING CODE 6717-01-P